POSTAL REGULATORY COMMISSION

[Docket No. PI2023-3]

Public Inquiry on Classification of First-Class Package Service Product

AGENCY: Postal Regulatory Commission.

ACTION: Notice.

SUMMARY: The Commission is issuing a Notice of Inquiry seeking comments and supporting analysis from interested parties regarding whether certain Postal Service products, or segments thereof, are properly classified as Competitive products. This notice informs the public of the inquiry, invites public comment, and takes other administrative steps.

DATES: Comments are due by October 27, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On April 7, 2023, the Commission established Docket No. PI2023-3 to explore commenters' claims that the First-Class Package Service (FCPS) product may not be correctly classified as a Competitive product.¹ Although the FCPS product has since been subsumed into the USPS Ground Advantage product, the Commission continues to receive comments in other dockets questioning whether certain Competitive parcel-shaped products, or segments thereof, should be classified as Market Dominant products.² In this docket, the Commission issues a Notice of Inquiry to afford all interested persons an opportunity to provide additional material on relevant classification issues.

¹ Notice and Order Initiating Public Inquiry on the Classification of the First-Class Package Service Product, April 7, 2023, at 1 (Order No. 6479).

² A product is Market Dominant if the Postal Service “exercises sufficient market power that it can effectively set the price of such product substantially above costs, raise prices significantly, decrease quality, or decrease output, without risk of losing a significant level of business to other firms offering similar products.” 39 U.S.C. 3642(b)(1). The Competitive category of products consists of all other products. Id.

The Commission concludes that commenters' claims regarding the proper classification of certain parcel-shaped products, or segments thereof, have not been fully developed in this docket or in other pertinent dockets. Moreover, the Commission finds it appropriate to expand this inquiry regarding the classification of the now-defunct FCPS product to encompass other Competitive parcel-shaped products. FCPS has been subsumed into the expanded USPS Ground Advantage product, and commenters have also expressed concerns about the classification of other products or product segments since this docket was opened. Moreover, the comments received in response to Order No. 6479 identified originating and destinating addresses in which the former FCPS product may not face effective competition,³ but those concerns could extend to other Competitive parcel products sent between those locations.

³ See Comments of Package Shippers Association, August 9, 2023, at 1-2; Comments of Association for Postal Commerce, August 9, 2023, at 2-3.

To ensure that the Commission has complete information to decide whether the transfer of some or all of a parcel product from the Competitive to the Market Dominant product list may be warranted,⁴ the Commission invites interested parties to provide comments and supporting material on relevant issues, particularly addressing the questions set forth in the Notice. The Notice also includes questions directed only to the Postal Service. Respondents are urged to fully support their respective positions with quantitative information. Responses may be filed under seal as applicable.⁵

⁴ See 39 U.S.C. 3642(a), (c).

⁵ Participants are reminded to file an accompanying Application for Non-Public Treatment of Materials Filed Under Seal. See 39 CFR 3011.200(a).

Comments are due 60 days from publication of this Notice in the Federal Register. Material filed in this docket will be available for review on the Commission's website, https://www.prc.gov. Pursuant to 39 U.S.C. 505, Kenneth R. Moeller will continue to serve as designated officer of the Commission (Public Representative) to represent the interests of the general public in this proceeding.

It is ordered:

1. Pursuant to 39 U.S.C. 505, Kenneth R. Moeller will continue to serve as an officer of the Commission (Public Representative) to represent the interests of the general public in this docket.

2. Comments on the topics set forth in this Notice are due 60 days from the date of publication of this Notice in the Federal Register.

3. The Secretary shall arrange for publication of this Notice, or abstract thereof, in the Federal Register.

By the Commission.
Erica A. Barker,
Secretary.

[FR Doc. 2025-16322 Filed 8-25-25; 8:45 am]

BILLING CODE 7710-FW-P